FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 14568N.

Name: Districargo, Inc.

Address: 8015 NW 29th Street, Miami, FL 33122.

Date Revoked: May 1, 2002.

Reason: Failed to maintain a valid bond.

License Number: 2827N.

Name: Raymond Express Corporation dba Raymond Express International.

Address: 320 Harbor Way, South San Francisco, CA 94080.

Date Revoked: May 9, 2002.

Reason: Surrendered license voluntarily.

License Number: 17258NF.

Name: Skycel, Inc. dba Econcargo.

Address: 8211 NW 68th Street, Miami, FL 33166.

Date Revoked: May 12, 2002.

Reason: Failed to maintain valid bonds.

License Number: 15097F.

Name: United Globe Cargo, Inc.

Address: 2142 NW 99th Avenue, Miami, FL 33172.

Date Revoked: May 12, 2002.

Reason: Failed to maintain a valid bond.

License Number: 16033NF.

Name: Wice Freight Services (Los Angeles), Inc.

Address: 701 West Manchester Blvd., Suite 102, Inglewood, CA 90301.

Date Revoked: May 30, 2002.

Reason: Surrendered license voluntarily.

Sandra L. Kusumoto,
Director, Bureau of Consumer Complaints and Licensing.

[FR Doc. 02-14782 Filed 6-11-02; 8:45 am]

BILLING CODE 6730-01-P